DEPARTMENT OF VETERANS AFFAIRS

Advisory Committee on Former Prisoners of War, Notice of Meeting

The Department of Veterans Affairs (VA) gives notice under Public Law 92-463 (Federal Advisory Committee Act) that a meeting of the Advisory Committee on Former Prisoners of War (FPOW) will be held on April 28-30, 2003, at the Department of Veterans Affairs Central Office, 810 Vermont Avenue, NW., Washington, DC 20420. On April 28, the meeting will be held in the Omar Bradley Conference Room and on April 29 and 30, the Committee will meet in Room 230. Each day the meeting will convene at 9 a.m. and end at 4:30 p.m. The meeting is open to the public.

The purpose of the committee is to advise the Secretary of Veterans Affairs on the administration of benefits under title 38, United States Code, for veterans who are former prisoners of war, and to make recommendations on the needs of such veterans for compensation, health care and rehabilitation.

The agenda for April 28 will begin with an introduction of Committee members, remarks from dignitaries, a review of Committee reports, an update of activities since the last meeting, and a period for FPOW veterans and/or the public to address the committee. The Committee will also discuss future plans for the VA FPOW Learning Seminars, and conclude with a report on the development of Special FPOW Care and Benefits Teams. The agenda on April 29 will include a review of VA's Compensation and Pension Service activities, including new outreach initiatives to FPOWs, initiatives to reduce the number of old pending disability claims, as well as a progress report from VA's FPOW Medical Presumptions Workgroup. The Committee will also hear presentations on the activities of the Veterans Health Administration, including a report on priority for FPOWs in Long-Term Health Care programs. The Committee will then hear a presentation from the Robert E. Mitchell Center for Prisoner of War Studies. The day will conclude with new business and general discussion. On April 30, the Committee's Medical and Administrative work groups will break out to discuss their activities and report back to the Committee. Additionally, the Committee will review and analyze the comments discussed throughout the meeting for the purpose of assisting and compiling a final report to be sent to the Secretary.

Members of the public may direct questions or submit prepared statements for review by the Committee in advance of the meeting, in writing only, to Mr. Ronald J. Henke, Director, Compensation and Pension Service (21), Department of Veterans Affairs, 810 Vermont Avenue, NW., Washington, DC 20420. Submitted materials must be received by April 18, 2003.

Dated: March 14, 2003.
By Direction of the Secretary.
E. Philip Riggin,
Committee Management Officer.

[FR Doc. 03-6790 Filed 3-20-03; 8:45 am]

BILLING CODE 8320-01-M